DEPARTMENT OF DEFENSE

Department of the Air Force

Board of Visitors of the U.S. Air Force Academy Notice of Meeting

AGENCY: U.S. Air Force Academy Board of Visitors, Department of Defense.

ACTION: Meeting withdrawal notice.

SUMMARY: The Board of Visitors of the U.S. Air Force Academy Notice of Meeting is withdrawing the notice, this meeting published on 23 March 2017 [FR 2017-05625].

DATES: This withdrawal is effective March 23, 2017.

SUPPLEMENTARY INFORMATION: The Department of the Air Force is withdrawing the meeting notice of the Board of Visitors that published on the 23rd since this meeting has been amended.

Henry Williams,
Acting Air Force Federal Register Liaison Officer.

[FR Doc. 2017-06173 Filed 3-28-17; 8:45 am]

BILLING CODE 5001-10-P